DEPARTMENT OF TRANSPORTATION

National Highway Traffic Safety Administration

[Docket No. NHTSA-2004-17473]

Notice of Receipt of Petition for Decision That Nonconforming 2002-2004 Porsche 911(996) Carrera Passenger Cars Are Eligible for Importation

AGENCY: National Highway Traffic Safety Administration, DOT.

ACTION: Notice of receipt of petition for decision that nonconforming 2002-2004 Porsche 911(996) Carrera passenger cars are eligible for importation.

SUMMARY: This document announces receipt by the National Highway Traffic Safety Administration (NHTSA) of a petition for a decision that 2002-2004 Porsche 911 (996) Carrera passenger cars that were not originally manufactured to comply with all applicable Federal motor vehicle safety standards are eligible for importation into the United States because (1) they are substantially similar to vehicles that were originally manufactured for importation into and sale in the United States and that were certified by their manufacturer as complying with the safety standards, and (2) they are capable of being readily altered to conform to the standards.

DATES: The closing date for comments on the petition is May 7, 2004.

ADDRESSES: Comments should refer to the docket number and notice number, and be submitted to: Docket Management, Room PL-401, 400 Seventh St., SW., Washington, DC 20590. (Docket hours are from 9 a.m. to 5 p.m.) Anyone is able to search the electronic form of all comments received into any of our dockets by the name of the individual submitting the comment (or signing the comment, if submitted on behalf of an association, business, labor union, etc.). You may review DOT's complete Privacy Act Statement in the Federal Register published on April 11, 2000 (volume 65, number 70, pages 19477-78), or you may visit http://dms.dot.gov.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

US SPECS (Registered Importer 03-321) of Aberdeen, Maryland has petitioned NHTSA to decide whether 2002-2004 Porsche 911 (996) Carrera passenger cars are eligible for importation into the United States. The vehicles that U.S. SPECS believes are substantially similar are 2002-2004 Porsche 911 (996) Carrera passenger cars that were manufactured for importation into, and sale in, the United States and certified by their manufacturer as conforming to all applicable Federal motor vehicle safety standards.

The petitioner claims that it compared non-U.S. certified 2002-2004 Porsche 911 (996) Carrera passenger cars to their U.S.-certified counterparts, and found the vehicles to be substantially similar with respect to compliance with most Federal motor vehicle safety standards.

US SPECS submitted information with its petition intended to demonstrate that non-U.S. certified 2002-2004 Porsche 911 (996) Carrera passenger cars, as originally manufactured, conform to many Federal motor vehicle safety standards in the same manner as their U.S. certified counterparts, or are capable of being readily altered to conform to those standards.

Specifically, the petitioner claims that non-U.S. certified 2002-2004 Porsche 911 (996) Carrera passenger cars are identical to their U.S. certified counterparts with respect to compliance with Standard Nos. 102 Transmission Shift Lever Sequence, 103 Defrosting and Defogging Systems, 104 Windshield Wiping and Washing Systems, 106 Brake Hoses, 109 New Pneumatic Tires, 113 Hood Latch Systems, 116 Brake Fluid, 124 Accelerator Control Systems, 135 Passenger Car Brake Systems, 201 Occupant Protection in Interior Impact, 202 Head Restraints, 204 Steering Control Rearward Displacement, 205 Glazing Materials, 206 Door Locks and Door Retention Components, 207 Seating Systems, 210 Seat Belt Assembly Anchorages, 212 Windshield Mounting, 214 Side Impact Protection, 216 Roof Crush Resistance, 219 Windshield Zone Intrusion, 302 Flammability of Interior Materials, and 401 Interior Trunk Release.

Petitioner also contends that the vehicles are capable of being readily altered to meet the following standards, in the manner indicated:

Standard No. 101 Controls and Displays: Modification of the speedometer so that it is calibrated in miles per hour (MPH).

Standard No. 108 Lamps, Reflective Devices and Associated Equipment: Installation of the following components on vehicles that are not already so equipped: (a) U.S.-model headlamps and front sidemarker lights; (b) U.S.-model taillamp assemblies, which incorporate rear sidemarker lights; (c) U.S.-model high-mounted stop light assembly; (d) compliant front and rear side reflex reflectors.

Standard No. 110 Tire Selection and Rims: Installation of a tire information placard.

Standard No. 111 Rearview Mirrors: Inscription of the required warning statement on the passenger side rearview mirror, or replacement of that mirror with a U.S.-model component.

Standard No. 114 Theft Protection: Installation of a key warning buzzer if the vehicles are not already so equipped.

Standard No. 118 Power-Operated Window Partition, and Roof Panel Systems: Programming of the vehicles or rewiring them, as required, to ensure compliance with the standard.

Standard No. 201 Occupant Protection In Interior Impact: Inspection of all vehicles and installation of U.S.-model components, as necessary, to ensure compliance with the standard. The petitioner expressed the belief that the vehicles do in fact comply with the standard.

Standard No. 208 Occupant Crash Protection: (a) Installation of an audible warning buzzer which is wired to the seat belt latches to ensure that the seat belt warning system activates in the proper manner; (b) inspection of all vehicles and installation of U.S.-model components, as necessary, to ensure compliance with the standard. The petitioner states that the vehicles are equipped with a seat belt warning lamp that is identical to the component used on the vehicles' U.S.-certified counterparts. The petitioner further states that the vehicles are equipped with dual front air bags and knee bolsters, and with combination lap and shoulder belts at the front and rear outboard seating positions that are self-tensioning and released by means of a single red push button.

Standard No. 209 Seat Belt Assemblies: inspection of all vehicles and installation of U.S.-model passenger side components, if not already so equipped, to ensure compliance with the standard. The petitioner expressed the belief that the vehicles do in fact comply with the standard.

Standard No. 225 Child Restraint Anchorage Systems: inspection of all vehicles and installation of U.S.-model components, as necessary, to ensure compliance with the standard.

301 Fuel System Integrity: Inspection of all vehicles and installation of U.S.-model components on vehicles that are not already so equipped, to ensure compliance with the standard.

Petitioner states that all vehicles must be inspected to ensure compliance with the Bumper Standard found at 49 CFR part 581 and that U.S.-model components will be installed, as necessary on vehicles that are not already so equipped. The petitioner expressed the belief that the vehicles do in fact comply with this standard.

The petitioner states that the vehicles are exempt from the Theft Prevention Standard at 49 CFR part 541 because they are equipped with antitheft devices.

The petitioner also states that a vehicle identification plate must be affixed to the vehicles near the left windshield post to meet the requirements of 49 CFR part 565.

Interested persons are invited to submit comments on the petition described above. Comments should refer to the docket number and be submitted to: Docket Management, Room PL-401, 400 Seventh St., SW., Washington, DC 20590. (Docket hours are from 9 a.m. to 5 p.m.) It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: April 2, 2004.
Kenneth N. Weinstein,
Associate Administrator for Enforcement.

[FR Doc. 04-7884 Filed 4-6-04; 8:45 am]

BILLING CODE 4910-59-P